FEDERAL COMMUNICATIONS COMMISSION

47 CFR Part 54

[WC Docket No. 17-310; FCC 19-78; FRS 16554]

Promoting Telehealth in Rural America; Correction

AGENCY: Federal Communications Commission.

ACTION: Correcting amendment.

SUMMARY: The Federal Communications Commission (Commission) is correcting a final rule that appeared in the Federal Register on October 11, 2019. The document omitted the new heading update in the rules section.

DATES: Effective March 19, 2020.

FOR FURTHER INFORMATION CONTACT: Bryan P. Boyle, Bryan.Boyle@fcc.gov, Telecommunications Access Policy Division, Wireline Competition Bureau, (202) 418-7924 or TTY: (202) 418-0484.

SUPPLEMENTARY INFORMATION: In FR Doc. 2019-20173, which published in the Federal Register of Friday, October 11, 2019 (84 FR 54952), the heading “Subpart G—Defined Terms and Eligibility” in the regulatory text on page 54979 should have read “Subpart G—Universal Service for Rural Health Care Program”. This document corrects the regulations accordingly.

List of Subjects in 47 CFR Part 54

Communications common carriers, Health facilities, Infants and children, Internet, Libraries, Reporting and recordkeeping requirements, Schools, Telecommunications, Telephone.

Accordingly, 47 CFR part 54 is corrected by making the following correcting amendment:

PART 54—UNIVERSAL SERVICE

1. The authority citation for part 54 continues to read as follows:

Authority: 47 U.S.C. 151, 154(i), 155, 201, 205, 214, 219, 220, 229, 254, 303(r), 403, 1004, and 1302 unless otherwise noted.

2. Revise the heading for subpart G to read as follows:

Subpart G—Universal Service for Rural Health Care Program

Dated: October 11, 2019.
Federal Communications Commission.
Marlene Dortch,
Secretary.

Editorial note: This document was received for publication by the Office of the Federal Register on March 11, 2020.

[FR Doc. 2020-05334 Filed 3-18-20; 8:45 am]

BILLING CODE 6712-01-P